DEPARTMENT OF ENERGY

Federal Energy Regulatory Commission

[Docket No. RP04-234-000]

East Tennessee Natural Gas Company; Notice of Cashout Report and Refund Plan

April 2, 2004.

Take notice that on March 29, 2004, East Tennessee Natural Gas Company (East Tennessee) tendered for filing its annual cashout report and refund plan for the November 2002 through October 2003 period in accordance with Rate Schedules LMS-MA and LMS-PA.

East Tennessee states that in accordance with its Rate Schedules LMS-MA and LMS-PA, upon the Commission's approval of the refund plan included in the filing, East Tennessee proposes to refund to its customers $341,554 resulting from cashout operations.

East Tennessee states that copies of the filing were mailed to all affected customers of East Tennessee and interested State commissions.

Any person desiring to be heard or to protest said filing should file a motion to intervene or a protest with the Federal Energy Regulatory Commission, 888 First Street, NE., Washington, DC 20426, in accordance with sections 385.214 or 385.211 of the Commission's rules and regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Intervention and Protest Date: April 9, 2004.

Magalie R. Salas,
Secretary.

[FR Doc. E4-794 Filed 4-8-04; 8:45 am]

BILLING CODE 6717-01-P